DEPARTMENT OF ENERGY

Federal Energy Regulatory Commission

[ Project No. 1992-003—California]

Ken Willis; Notice of Availability of Environmental Assessment

In accordance with the National Environmental Policy Act of 1969 and the Federal Energy Regulatory Commission's regulations, 18 CFR part 380 (Order No. 486, 52 FR 47897), the Office of Energy Projects has reviewed the application for a new license for the Fire Mountain Lodge Hydroelectric Project, located on Fern Spring, near the town of Mill Creek in Tehama County, California, and has prepared an environmental assessment (EA). In the EA, Commission staff analyze the potential environmental effects of the proposed project and conclude that issuing a new license for the proposed project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/esubscribenow.htm to be notified via email of new filings and issuances related to this or other pending projects. For assistance, contact FERC Online Support at FERCOnlineSupport@ferc.gov or toll-free at 1-866-208-3676, or for TTY, (202) 502-8659.

Please contact Matt Buhyoff by telephone at (202) 502-6824 or by email at matt.buhyoff@ferc.gov if you have any questions.

Dated: February 16, 2012.
Kimberly D. Bose,
Secretary.

[FR Doc. 2012-4410 Filed 2-24-12; 8:45 am]

BILLING CODE 6717-01-P